DEPARTMENT OF TRANSPORTATION

Saint Lawrence Seaway Development Corporation

33 CFR Part 401

[Docket No. SLSDC 2002-13698]

RIN 2135-AA15

Seaway Regulations and Rules: Automatic Identification System

AGENCY: Saint Lawrence Seaway Development Corporation, DOT.

ACTION: Final rule; correction.

SUMMARY: In the Saint Lawrence Seaway Development Corporation (SLSDC) final rule amending the Seaway regulations and rules (33 CFR part 401) published in the Federal Register on February 28, 2003 (68 FR 9549), an inadvertent error was made in the heading of the new § 401.20. This document corrects that error.

DATES: Effective on March 25, 2003.

FOR FURTHER INFORMATION CONTACT: Marc C. Owen, Chief Counsel, Saint Lawrence Seaway Development Corporation, 400 Seventh Street, SW., Washington, DC 20590, (202) 366-6823.

SUPPLEMENTARY INFORMATION: In the Saint Lawrence Seaway Development Corporation (SLSDC) final rule amending the Seaway regulations and rules (33 CFR part 401) published in the Federal Register on February 28, 2003 (68 FR 9549), an inadvertent error was made in the heading of the new § 401.20. In the heading, the word “Automated” should have been “Automatic.” This correction makes that change.

In rule FR Doc. 03-4740 published in the Federal Register on February 28, 2003 (68 FR 9549), make the following correction:

1. On page 9551, in the heading of the new § 401.20, remove “Automated” and add in its place “Automatic”.

Issued in Washington, DC on March 10, 2003.
Saint Lawrence Seaway Development Corporation.
Marc C. Owen,
Chief Counsel.

[FR Doc. 03-6048 Filed 3-12-03; 8:45 am]

BILLING CODE 4910-61-P